DEPARTMENT OF AGRICULTURE

Rural Housing Service

Notice of Availability of Hurricane Disaster Assistance

AGENCY: Rural Housing Service, USDA.

ACTION: Notice.

SUMMARY: The Rural Housing Service programs are administered through USDA Rural Development. This Notice is intended to announce the availability of supplemental hurricane disaster assistance to be administered through the Community Facilities (CF) Direct Loan and Grant program. USDA Rural Development will provide CF Grant funds in the amount of $20,000,000 and CF Direct Loan funds in the amount of $149,253,000 for essential community facilities in rural areas affected by Hurricane Katrina and other hurricanes of the 2005 season.

DATES: Effective Date: August 16, 2006.

FOR FURTHER INFORMATION CONTACT: Information for the Community Facilities Direct Loan and Grant Program may be obtained by contacting your USDA Rural Development State Office as outlined in Section I.D.

For questions regarding information contained in this Notice, please contact Derek L. Jones, Loan Specialist, Community Programs, at 202-720-1504.

Background: The CF Direct Loan and Grant Program is designed to finance and facilitate the development of many different types of essential community facilities serving rural areas. These facilities include, but are not limited to, hospitals, medical clinics, elderly care facilities, police stations and vehicles, fire and rescue stations and vehicles, vocational and medical rehabilitation centers, and educational facilities. Funds under this Notice can be used to construct, enlarge, repair, or improve community facilities. This can include the purchase of equipment required for a facility's operation.

Chapter 1 of title I of Division B of the Department of Defense, Emergency Supplemental Appropriations to Address Hurricanes in the Gulf of Mexico and Pandemic Influenza Act, 2006 (Pub. L. 109-148) (Act) provides USDA Rural Development with additional authorities to waive certain program requirements and resources to address the damage caused by the Gulf Coast hurricanes. Section 2103 of title II of the Emergency Supplemental Appropriations Act for Defense, the Global War on Terror, and Hurricane Recovery, 2006 extended the expiration date of these waiver authorities under the Act for an additional 18 months and provided a total amount of $169,253,000 in CF Direct Loan and Grant funds for CF projects.

Accordingly, the matching funds requirement for the CF Grant program will be waived for assistance provided under this Notice. In addition, the median household income requirements and the grant limits will also be waived for the purpose of this Notice.

I. General Provisions

A. Designated Disaster Area

For the purposes of this Notice, the designated disaster area shall be those Presidentially-declared areas in the states of Alabama, Florida, Louisiana, Mississippi, North Carolina, and Texas in accordance with the Robert T. Stafford Disaster Relief and Emergency Assistance Act, 42 U.S.C. 5121 et seq.

B. Limitation of Grant Amounts

The Act enables the Secretary of Agriculture to make grants under the CF Grant program without regard to any grant amount limitation. Rural Development has determined that it will review and make awards under this NOFA as applications are received. Applications will be reviewed, approved, and obligated in the State Rural Development Office.

C. Contacts for Additional Information

For questions about USDA Rural Development's programs and for application assistance, please contact your USDA Rural Development State Office. The contact information for your State Office can be found at: http://www.rurdev.usda.gov. You can also reach your State Office by calling (202) 720-4323 and pressing “1”.

D. Programs Referenced in This Notice Are Subject to Applicable Civil Rights Laws

These laws include the Equal Credit Opportunity Act, Title VI of the Civil Rights Act of 1964, Title VIII of the Civil Rights Act of 1968, as amended in 1988, Section 504 of the Rehabilitation Act of 1973 and the Age Discrimination Act of 1975.

II. Assistance Available Through This Notice

Direct Loan and Grant Program

1. Description of Assistance

Section 105 of the Act enables USDA Rural Development to make Community Facilities Direct Loan and Grants in designated disaster areas. CF Grants can be made without regard to graduated funding or matching fund requirements.

2. Eligibility Criteria

Public entities such as municipalities, counties, and special-purpose districts, as well as non-profit corporations and tribal governments in designated Rural disaster areas with a population of 20,000 or less are eligible to apply.

3. Priority

Administrator's points may be awarded for geographic distribution of funds and for projects with pre-existing hurricane or tornado damage which were subsequently affected by hurricanes of the 2005 season.

4. Applicable Statutory or Regulatory Authority

Consolidated Farm and Rural Development Act, Section 306 (7 U.S.C. 1926(a)(1) and (19)); and, to the extent not waived by this Notice, 7 CFR, Part 3570, Subpart B, Community Facilities Grant Program, and 7 CFR Part 1942, Subpart A, Community Facilities Direct Loan Program.

III. Emergency Declaration

Consistent with Proclamation 7925 issued by President Bush, the USDA Rural Development Mission Area has determined that it would be impracticable, unnecessary, and contrary to public interest to delay the effective date of this Notice for any reason. The USDA Rural Development Agencies need to act promptly on hurricane related needs in the designated disaster areas.

IV. Non-Discrimination Statement

The U.S. Department of Agriculture (USDA) prohibits discrimination in all its programs and activities on the basis of race, color, national origin, age, disability, and where applicable, sex, marital status, familial status, parental status, religion, sexual orientation, genetic information, political beliefs, reprisal, or because all or part of an individual's income is derived from any public assistance program. (Not all prohibited bases apply to all programs.) Persons with disabilities who require alternative means for communication of program information (Braille, large print, audiotape, etc.) should contact USDA's TARGET Center at (202) 720-2600 (voice and TDD). To file a complaint of discrimination, write to USDA, Director, Office of Civil Rights, 1400 Independence Avenue, SW., Washington, DC 20250-9410, or call (800) 795-3272 (voice), or (202) 720-6382 (TDD). “USDA is an equal opportunity provider, employer, and lender”.

Dated: August 2, 2006.
Russell T. Davis,
Administrator, Rural Housing Service.

[FR Doc. E6-13432 Filed 8-15-06; 8:45 am]

BILLING CODE 3410-XV-P